SMALL BUSINESS ADMINISTRATION

Federal Assistance to Provide Financial, Counseling, Technical Assistance and Long Term Training to Small Business Owners and Those Interested in Starting a Small Business

AGENCY: Small Business Administration.

ACTION: SBDC 2003 Program Announcement for CY 2003.

SUMMARY: The Small Business Administration plans to issue a supplemental SBDC Program Announcement for CY 2003 to invite applicants from Institutions of Higher Education and Women's Business Centers to establish, manage, and oversee a Small Business Development Center (SBDC) Network in the Commonwealth of Virginia.

The authorizing legislation is Section 21 of the Small Business Act, (15 U.S.C. Section 648).

SBA's Richmond District Office will hold a bidders conference on November 19, 2002.

SBA's Richmond District Office must receive applications/proposals by December 6, 2002.

SBA will select the applicants competitively. The successful applicant will receive an award to provide long term training, counseling and technical assistance to business persons who want to start or expand a small business.

The applicant must submit a one year plan that describes the network, sources of match, training and technical assistance activities. Award recipients must provide non-Federal matching funds, i.e., one-non Federal dollar for each Federal dollar for the project-year. At least half of the matching requirement must be in cash. The remainder may be in-kind or in waived indirect cost.

DATES: SBA will mail program announcements to interested parties, immediately, upon request. The opening date will be October 21, 2002.

FOR FURTHER INFORMATION CONTACT: Charles Gastón, (804) 771-2741 x 140 or Jorge Cardona, (202) 205-7303.

Johnnie L. Albertson,
Associate Administrator for Small Business Development Centers.

[FR Doc. 02-27062 Filed 10-23-02; 8:45 am]

BILLING CODE 8025-01-P